DEPARTMENT OF DEFENSE

Office of the Secretary

[Transmittal No. 22-03]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-03 with attached Policy Justification.

Dated: May 9, 2024.
Aaron T. Siegel,
Alternate OSD Federal Register Liaison Officer, Department of Defense.

BILLING CODE 6001-FR-P

BILLING CODE 6001-FR-C

Transmittal No. 22-03

Notice of Proposed Issuance of Letter of Offer Pursuant to Section 36(b)(1) of the Arms Export Control Act, as amended

(i) Prospective Purchaser: Government of Argentina

(ii) Total Estimated Value:

Major Defense Equipment * | $ 0 million
Other | $73 million
TOTAL | $73 million

Funding Source: National Funds

(iii) Description and Quantity or Quantities of Articles or Services under Consideration for Purchase:

Major Defense Equipment (MDE):

None

Non-MDE:

Follow-on sustainment and support of their T-6 Texan aircraft fleet, to include the following aircraft hardware and software modifications and support: major and minor modifications include airframe and avionics improvements for reliability and integration of training munitions and external fuel tanks; aircraft and engine support equipment, components, consumables, spare parts and repair/return; publications and technical documentation; heavy maintenance support; other U.S. Government and contractor engineering, technical, and logistical support services, and related elements of program support.

(iv) Military Department: Air Force (AR-D-QAY)

(v) Prior Related Cases, if any: AR-D-SAI

(vi) Sales Commission, Fee, etc., Paid, Offered, or Agreed to be Paid: None known at this time

(vii) Sensitivity of Technology Contained in the Defense Article or Defense Services Proposed to be Sold: None

(viii) Date Report Delivered to Congress: April 8, 2022

* As defined in Section 47(6) of the Arms Export Control Act.

POLICY JUSTIFICATION

Argentina—T-6 Aircraft Sustainment

The Government of Argentina has requested to buy follow-on sustainment and support of their T-6 Texan aircraft fleet, to include the following aircraft hardware and software modifications and support: major and minor modifications include airframe and avionics improvements for reliability and integration of training munitions and external fuel tanks; aircraft and engine support equipment, components, consumables, spare parts and repair/return; publications and technical documentation; heavy maintenance support; other U.S. Government and contractor engineering, technical, and logistical support services, and related elements of program support. The estimated total cost is $73 million.

This proposed sale will support the foreign policy goals and national security objectives of the United States by improving the security of a major Non-NATO ally that is a force for political stability and economic progress in South America. It is in the U.S. national interest to assist Argentina in developing and maintaining a strong and ready self-defense capability.

The proposed renewal of T-6 aircraft support will provide the Government of Argentina with the capability to meet current and future threats by revitalizing Argentina's trainer aircraft capabilities and to aid in the overall development of a professional pilot corps. Argentina is committed to modernizing its military and will have no difficulty absorbing the additional sustainment into its armed forces.

The proposed sale of this equipment and support will not alter the basic military balance in the region.

The principal contractor will be Textron Aviation Defense, Wichita, KS. There are no known offset agreements proposed in connection with this potential sale.

Implementation of this proposed sale may require the assignment of additional U.S. Government and/or U.S. contractor representatives to Argentina to support program and financial management reviews.

There will be no adverse impact on U.S. defense readiness as a result of this proposed sale.

[FR Doc. 2024-10604 Filed 5-15-24; 8:45 am]

BILLING CODE 6001-FR-P